DEPARTMENT OF TRANSPORTATION

Federal Aviation Administration

Proposed Advisory Circular 120-XX, “Program To Enhance Transport Category Airplane Electrical Wiring Interconnection System Maintenance”

AGENCY: Federal Aviation Administration (FAA), DOT.

ACTION: Notice of availability and request for comments.

SUMMARY: This notice announces the availability of and requests comments on a proposed advisory circular (AC) that sets forth acceptable methods of compliance with 14 CFR part 25, Appendix H, section H25.5(a)(1). This proposed AC complements revisions to the airworthiness standards that are being proposed by a separate notice. This notice is necessary to give all interested persons an opportunity to present their views on the proposed AC.

DATES: Comments must be received on or before December 19, 2005.

ADDRESSES: Send all comments on the proposed AC to: Federal Aviation Administration, Attention: Stephen Slotte, ANM-111, Airplane & Flight Crew Interface, Federal Aviation Administration, 1601 Lind Avenue SW., Renton, WA 98055-4056; telephone (425) 227-2315; facsimile (425) 227-1320, e-mail steve.slotte@faa.gov. Comments may be inspected at the above address between 7:30 a.m. and 4 p.m. weekdays, except Federal holidays.

FOR FURTHER INFORMATION CONTACT: Annette Kovite, Transport Standards Staff, at the address above, telephone (425) 227-1262.

SUPPLEMENTARY INFORMATION: Comments Invited: Interested persons are invited to comment on the proposed AC by submitting such written data, views, or arguments as they may desire. Commenters should identify AC 120-XX and submit comments, in duplicate, to the address specified above. All communications received on or before the closing date for comments will be considered by the FAA before issuing the final AC. The proposed AC can be found and downloaded from the Internet at http://www.airweb.faa.gov/rgl under “Draft Advisory Circulars.” A paper copy of the proposed AC may be obtained by contacting the person named above under the caption FOR FURTHER INFORMATION CONTACT.

Discussion: This proposed AC provides guidance for developing enhanced electrical wiring interconnection system (EWIS) maintenance and inspection procedures in accordance with section H25.5(a)(1) of Appendix H to part 25 of 14 CFR. The guidance provided in this proposed AC is directed to air carriers, air operators, type certificate holders, STC holders, maintenance providers, repair stations, and anyone performing field approval modifications or repairs. It is one means, but not the only means, of complying with the part 25 revisions proposed in Notice No. 05-08, entitled “Enhanced Airworthiness Program for Airplane Systems/Fuel Tank Safety (EAPAS/FTS),” published previously in the Federal Register. Issuance of AC 120-XX is contingent on final adoption of the proposed revisions to part 25.

Issued in Washington, DC, on October 12, 2005.
John M. Allen,
Acting Director, Flight Standards Service, Aviation Safety.
Dorenda Baker,
Acting Director, Aircraft Certification Service, Aviation Safety.

[FR Doc. 05-20851 Filed 10-17-05; 8:45 am]

BILLING CODE 4910-13-P